DEPARTMENT OF VETERANS AFFAIRS

[OMB Control No. 2900-0021]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 5, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail to: denise.mclamb@mail.va.gov. Please refer to “OMB Control No. 2900-0021.”

SUPPLEMENTARY INFORMATION: Titles:

a. Notice of Default, VA Form 26-6850.

b. Notice of Default and Intention to Foreclose, VA Form 26-6850a.

c. Notice of Intention to Foreclose, VA Form 26-6851.

OMB Control Number: 2900-0021.

Type of Review: Reinstatement, without change, of a previously approved collection for which approval has expired.

Abstract: Holders of guaranteed loans are required to notify VA within 45 days of a loan default by reason of nonpayment of any installment for a period of 60 days from the date of the first uncured default of their intention to foreclose. After delivery of such notice to VA, 30 days must pass before the holder can begin court proceedings or give notice of sale under power of sale or otherwise take steps to terminate the debtor's rights in the security. Many times, defaults are determined insoluble by holders at the time the notice of default is to be filed with VA. In such cases, the holders are required to file VA Form 26-6850a, which will provide both notices of default and intent to foreclose together on one form. VA Form 26-6850a requires that servicing efforts be fully explained so that VA can determine whether supplement servicing could develop further information which might justify the extension of forbearance to the veteran-borrower as opposed to foreclosure. The information provided is used to coordinate actions of VA and the holder to ensure that all legal requirements regarding foreclosure and claim payment are met.

An agency may not conduct or sponsor, and a person is not required to respond to a collection of information unless it displays a currently valid OMB control number. The Federal Register notice with a 60-day comment period soliciting comments on this collection of information was published on October 17, 2000, at pages 61379 and 61380.

Affected Public: Individuals or households and Business or other for-profit.

Estimated Annual Burden: 66,166.

a. VA Form 26-6850—20,166 hours.

b. VA Form 26-6850a—26,000 hours.

c. VA Form 26-6851—20,000 hours.

Estimated Average Burden Per Respondent:

a. VA Form 26-6850—10 minutes.

b. VA Form 26-6850a—20 minutes.

c. VA Form 26-6851—15 minutes.

Frequency of Response: On occasion.

Estimated Number of Respondents: 279,000.

a. VA Form 26-6850—121,000 respondents.

b. VA Form 26-6850a—78,000 respondents.

c. VA Form 26-6851—80,000 respondents.

Send comments and recommendations concerning any aspect of the information collection to VA's OMB Desk Officer, OMB Human Resources and Housing Branch, New Executive Office Building, Room 10235, Washington, DC 20503 (202) 395-7316. Please refer to “OMB Control No. 2900-0021” in any correspondence.

Dated: February 8, 2001.
By direction of the Secretary.
Donald L. Neilson,
Director, Information Management Service.

[FR Doc. 01-5298 Filed 3-5-01; 8:45 am]

BILLING CODE 8320-01-P